DEPARTMENT OF JUSTICE

Notice of Lodging of Consent Decree Under the Comprehensive Environmental Response, Compensation and Liability Act (“CERCLA”)

Pursuant to section 122(d)(2) of CERCLA, 42 U.S.C. 9622(d)(2), notice is hereby given that on July 28, 2003, a Consent Decree with Robert Dwight Weed, Jr. was lodged with the United States District Court for the Eastern District of Michigan in the matter of United States v. Robert Dwight Weed, Jr., No. 2:03-CV-72897 (E.D. Mich.).

In that action the United States seeks to recover from the Defendant pursuant to sections 107 and 113(g)(2) of the Comprehensive Environmental Response, Compensation, and Liability Act of 1980, as amended, (“CERCLA”), 42 U.S.C. 9607 and 9613(g)(2), the costs incurred and to be incurred by the United States in responding to the release and/or threatened release of hazardous substances at and from the Durako Paint Site (or “Site”) in Detroit, Wayne County, Michigan.

Under the proposed Partial Consent Decree, Defendant Robert Dwight Weed, Jr. Will pay $30,000 to the Hazardous Substances Superfund in reimbursement of the costs incurred by the United States at the Site.

The Department of Justice will receive for a period of thirty (30 days from the date of this publication comments relating to the Consent Decree. Comments should be addressed to the Assistant Attorney General, Environment and Natural Resources Division, P.O. Box 7611, U.S. Department of Justice, Washington, DC 20044-7611, and should refer to United States v. Robert Dwight Weed, Jr., (No. 2:03-CV-72897 (E.D. Mich.) (DOJ Ref. No. 90-11-3-07511).

The Consent Decree may be examined at the Office of the United States Attorney, Eastern District of Michigan, 211 W. Fort Street, Detroit, Michigan 48226-3211; and at EPA Region 5, 77 W. Jackson Blvd., Chicago, Illinois 60604 (contact Sherry L. Estes, Esq., (312) 886-7164). During the public comment period, the Consent Decree may also be examined on the following Department of Justice Web site, http://www.usdoj.gov/enrd/open.html. A copy of the Partial Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please refer to United States v. Robert Dwight Weed, Jr., (No. 2:03-CV-72897 (E.D. Mich.) (DOJ Ref. No. 90-11-3-07511), and enclose a check in the amount of $5.00 (25 cents per page reproduction cost) payable to the Consent Decree Library.

William Brighton,
Assistant Section Chief, Environmental Enforcement Section, Environment & Natural Resources Division.

[FR Doc. 03-21389 Filed 8-20-03; 8:45 am]

BILLING CODE 4410-15-M